DEPARTMENT OF DEFENSE

Notice of Advisory Committee Closed Meeting

AGENCY: Department of Defense.

ACTION: Notice of Advisory Committee Closed Meeting.

SUMMARY: Pursuant to the Federal Advisory Committee Act of 1972 (5 U.S.C. App 2, section 1), the Sunshine in the Government Act of 1976 (5 U.S.C. 552b), and 41 CFR 102-3.150, the Department of Defense announces the following closed meeting notice pertaining to the following federal advisory committee. Due to events beyond the control of the Designated Federal Officer and the Transformation Advisory Group, the Committee was unable to publish its meeting notice in the Federal Register for the 15-calendar days required by 41 CFR 102-3.150(a). Accordingly, the Committee Management Officer for the Department of Defense, pursuant to 41 CFR 102-3.150(b), waives the 15-calendar day notification requirement

Name of Committee: Transformation Advisory Group.

Date: October 18, 2007; October 19, 2007.

Time: October 18, 2007-9 a.m. to 5 p.m.

October 19, 2007-9 a.m. to 5 p.m.

Location: Military Sealift Command Tower Conference Center, Bldg. 157, 914 Charles Morris Ct. SE., Washington Navy Yard, DC 20398.

Purpose of the Meeting: The purpose of the meeting is to obtain, review and evaluate information related to scientific, technical and policy-related issues for the nation's joint enterprise, and U.S. Joint Forces Command with emphasis on how these issues relate to the shaping of the command's efforts today and in the future.

Agenda: Topics include: Future Joint Force Implications, Anticipatory Transformation, Innovation, Unified Action, Joint Capability Portfolio Management Process and Joint Capabilities to support Joint Operations.

Meeting Accessibility: Pursuant to 5 U.S.C. 552b, and 41 CFR 102-3.155, the Department of Defense has determined that the meeting shall be closed to the public. Per delegated authority by the Chairman, Joint Chiefs of Staff, LTG John R. Wood, Deputy Commander, U.S. Joints Forces Command in consultation with his legal advisor, has determined in writing that the public interest requires that all sessions of this meeting be closed to the public because they will be concerned with matters listed in section 552b(c)(1) of Title 5 U.S.C.

Written Statements: Pursuant to 41 CFR 102-3.105(j) and 102-3.140, the public or interested organizations may submit written statements to the membership of the Transformation Advisory Group at any time or in response to the stated agenda of a planned meeting. Written statements should be submitted to the Transformation Advisory Group's Designated Federal Officer; the Designated Federal Officer's contact information can be obtained from the GSA's FACA Database— https://www.fido.gov/facadatabase/public.asp. Written statements that do not pertain to a scheduled meeting of the Transformation Advisory Group may be submitted at any time. However, if individual comments pertain to a specific topic being discussed at a planned meeting then these statements must be submitted no later than five business days prior to the meeting in question. The Designated Federal Officer will review all submitted written statements and provide copies to all the committee members.

For Further Information Contact: Ms. Tammy R. Van Dame, Designated Federal Officer, (757) 836-5365, 1562 Mitscher Ave., Suite 200, Norfolk, VA 23551-2488, tammy.vandame@jfcom.mil.

Supplementary Information: Mr. Floyd March, Joint Staff, (703) 697-0610.

Dated: October 1, 2007.
C.R. Choate,
Alternate OSD Federal Register Liaison Officer, Department of Defense.

[FR Doc. 07-4965 Filed 10-5-07; 8:45 am]

BILLING CODE 5001-06-M